FEDERAL HIGHWAY ADMINISTRATION

[FHWA-DC-2011-01-F]

Notice of Availability of the Final Environmental Assessment for the Metropolitan Branch Trail

AGENCY: Federal Highway Administration, District of Columbia Division; and District Department of Transportation; in cooperation with the National Park Service.

ACTION: Notice of availability of the Final Environmental Assessment for the Metropolitan Branch Trail (MBT) Project.

SUMMARY: The U.S. Federal Highway Administration (FHWA) and the District Department of Transportation (DDOT) as lead agencies, and in cooperation with the National Park Service (NPS), announce the availability of the Final Environmental Assessment (Ea) for the Metropolitan Branch Trail Project, pursuant to the requirements of the National Environmental Policy Act of 1969 (NEPA), 42 U.S.C. 4321-4347; the Council on Environmental Quality Regulations (40 CFR parts 1500-1508); and the FHWA Environmental Impact and Related Procedures (23 CFR 771).

FOR FURTHER INFORMATION CONTACT: Federal Highway Administration, District of Columbia Division: Mr. Michael Hicks, Environmental/Urban Engineer, 1990 K Street, NW., Suite 510, Washington, DC 20006-1103, (202) 219-3536; or District Department of Transportation: Austina Casey, Project Manager, Planning, Policy and Sustainability Administration, 2000 14th Street, NW., 7th Floor, Washington, DC 20009, (202) 671-2740.

SUPPLEMENTARY INFORMATION: The proposed action evaluated in the Environmental Assessment (EA) includes construction of a multi-use trail facility following the Metro red line from Fort Totten to Takoma and the Metro green line from Fort Totten to the District border.

This EA analyzed the potential impacts resulting from constructing and operating the MBT on sections of land owned by the NPS within the area north of Fort Totten (Reservation 451 West), the area east of Fort Totten (Reservation 451 East), the Community Gardens (Reservation 497), and Tacoma Park (Reservation 531). Following the public comment period, DDOT identified Alternatives A1, B1, C1 and/or C2 as the Preferred Alternatives.

Electronic and Hard Copy Access: An electronic copy of this document may be downloaded from the Project Web Site: http://www.metbranchtrail.com. Hard copies of the EA may also be viewed at the following locations:

District Department of Transportation, Planning, Policy, and Sustainability Administration, 55 M Street, SE., 4th Floor, Washington, DC 20003.

Martin Luther King, Jr. Memorial Library, 901 G Street, NW., Washington, DC 20001.

Issued: July 7, 2011.
Joseph C. Lawson,
Division Administrator.

[FR Doc. 2011-17577 Filed 7-12-11; 8:45 am]

BILLING CODE 4910-22-P